DEPARTMENT OF COMMERCE

National Institute of Standards and Technology

Proposed Information Collection; Comment Request; National Voluntary Conformity Assessment System Evaluation (NVCASE) Program

ACTION: Notice.

SUMMARY: The Department of Commerce (DOC), as part of its continuing effort to reduce paperwork and respondent burden, invites the general public and other Federal agencies to comment on the continuing and proposed information collection, as required by the Paperwork Reduction Act of 1995, Public Law 104-13 (44 U.S.C. 3506(c)(2)(A)).

DATES: Written comments must be submitted on or before August 29, 2005.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information should be directed to the attention of Jogindar S. Dhillon, National Institute of Standards and Technology (NIST), 100 Bureau Drive, Stop 2150, Gaithersburg, MD 20899-2150, telephone: (301) 975-5521 or via e-mail to jogindar.dhillon@nist.gov.

SUPPLEMENTARY INFORMATION

I. Abstract

The National Voluntary Conformity Assessment System Evaluation (NVCASE) Program is a voluntary program to evaluate organizations that carry out activities related to laboratory testing, product certification, and quality system registration. Any interested organizations provide information to the National Institute of Standards and Technology (NIST) to support their conformance with established criteria for any of these activities. The information provided is used to conduct a NVCASE evaluation. Based on NVCASE evaluations, NIST provides recognition to qualified U.S. organizations. The ultimate goal is to help U.S. manufacturers satisfy applicable product requirements mandated by other countries through conformity assessment procedures conducted in this country prior to export. NVCASE recognition (1) provides other governments with a basis for having confidence that qualifying U.S. conformity assessment bodies (CABs) are competent, and (2) facilitates the acceptance of U.S. products in foreign-regulated markets based on U.S. conformity assessment results.

The NVCASE recognition program facilitates U.S. trade with Europe, Asia and the Americas under government-to-government agreements, and facilitates the flow of U.S. products to countries in those regions.

II. Method of Collection

Applicants submit written information to NIST.

III. Data

OMB Number: 0693-0019.

Form Number(s): None.

Type of Review: Regular submission.

Affected Public: Business or other for-profit organizations.

Estimated Number of Respondents: 10.

Estimated Time Per Response: 3 hours.

Estimated Total Annual Respondent Burden Hours: 30.

Estimated Total Annual Respondent Cost Burden: $1,050.

IV. Request for Comments

Comments are invited on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: June 23, 2005.
Gwellnar Banks,
Management Analyst, Office of the Chief Information Officer.

[FR Doc. 05-12782 Filed 6-28-05; 8:45 am]

BILLING CODE 3510-13-P